DEPARTMENT OF ENERGY

Environmental Management Site-Specific Advisory Board Chairs

AGENCY: Office of Environmental Management, Department of Energy.

ACTION: Notice of open meeting.

SUMMARY: This notice announces an in-person/virtual hybrid meeting of the Environmental Management Site-Specific Advisory Board (EM SSAB) Chairs. The Federal Advisory Committee Act requires that public notice of this online virtual meeting be announced in the Federal Register.

DATES: Tuesday, May 3, 2022; 1:00 p.m.-5:00 p.m. CDT; Wednesday, May 4, 2022; 10:00 a.m.-3:00 p.m. CDT.

ADDRESSES: This hybrid meeting will be open to the public in-person and virtually (observation only). To attend, please contact Alyssa Harris by email, Alyssa.Harris@em.doe.gov, no later than 5:00 p.m. EDT on Monday, April 25, 2022.

Those participating in-person will meet at: The Carson Center—Myre River Room, 100 Kentucky Avenue, Paducah, KY 42003.

FOR FURTHER INFORMATION CONTACT: Alyssa Harris, EM SSAB Federal Coordinator. U.S. Department of Energy, 1000 Independence Avenue SW, Washington, DC 20585. Email: Alyssa.Harris@em.doe.gov. Telephone: (202) 586-7627.

SUPPLEMENTARY INFORMATION:

Purpose of the Board: The purpose of the Board is to make recommendations to DOE-EM and site management in the areas of environmental restoration, waste management, and related activities.

Tentative Agenda Topics

Tuesday, May 3, 2022

• EM Program Update

• Chairs Round Robin

• Public Comment

• EM SSAB Recommendation Status

• Administration Priorities Presentation

• Board Business/Open Discussion

Wednesday, May 4, 2022

• Office of Technology Development Overview

• Budget Update

• Public Comment

• Board Business/Open Discussion

Public Participation: The meeting is open to the public in-person and virtually. To provide a safe meeting environment with social distancing, seating may be limited; attendees should register for attendance by sending an email to Alyssa.Harris@em.doe.gov no later than 5:00 p.m. ET on Wednesday, April 27, 2022. The EM SSAB welcomes the attendance of the public at its advisory committee meetings and will make every effort to accommodate persons with physical disabilities or special needs. If you require special accommodations due to a disability, please note this when registering. Public comments will be accepted during the meeting for in-person participants and via email for virtual participants prior to and after the meeting. Comments received in writing no later than 5:00 p.m. EDT on Wednesday, April 27, 2022 will be read aloud during the meeting. Comments will also be accepted after the meeting by no later than 5:00 p.m. EDT on Wednesday, May 11, 2022 to be included in the official meeting record. Please send comments to Alyssa Harris at Alyssa.Harris@em.doe.gov. The Designated Federal Officer is empowered to conduct the meeting in a fashion that will facilitate the orderly conduct of business.

Minutes: Minutes will also be available at the following website: https://energy.gov/em/listings/chairs-meetings.

Signed in Washington, DC, on April 5, 2022.
LaTanya Butler,
Deputy Committee Management Officer.

[FR Doc. 2022-07564 Filed 4-8-22; 8:45 am]

BILLING CODE 6450-01-P